Title 3—

The President

Proclamation 9547 of November 30, 2016

National Impaired Driving Prevention Month, 2016

By the President of the United States of America

A Proclamation

Driving drunk, drugged, or distracted poses a significant threat to drivers, passengers, pedestrians, and all who share our roads. During the holiday season, incidents of impaired driving occur more frequently, and every December, we observe National Impaired Driving Prevention Month to highlight steps we can take to improve safety on our streets and raise awareness of these preventable dangers.

Recently, the number of traffic crash fatalities caused by impaired driving has unfortunately increased—last year, preventable alcohol-related driving fatalities accounted for nearly one-third of all traffic fatalities. Consumption of alcohol by drivers, even those who are of legal drinking age, is highly dangerous, and drug use, including prescription drug use, can also harm judgment, perception, and the motor skills used when driving. Distracted driving—including eating, tending to passengers, and using a cell phone—can also be dangerous and is equally preventable.

We can all do our part to keep our roads safe and prevent these tragedies. As passengers, we can reduce our interactions with drivers and lessen distractions. As friends and family members, we can look out for loved ones who may be drinking and help them get home safely. And as citizens, we can always call 911 to report any dangerous driving we observe.

My Administration has worked to help Americans who struggle with substance use disorders and substance misuse, which can lead to incidents of drunk or drugged driving. We are also striving to give law enforcement officers the resources and support they need to combat impaired driving, and we must encourage the development of technologies like ignition interlock devices, which can prevent impaired individuals from getting behind the wheel. Through the Drive Sober or Get Pulled Over campaign, States and communities across our country are working to increase road patrols and sobriety checkpoints, in addition to raising awareness and improving education on the dangers of impaired driving. You can learn more about what we are doing to prevent impaired driving by visiting www.WhiteHouse.gov/ONDCP/DruggedDriving, www.NHTSA.gov/DriveSober, and www.Distraction.gov.

Whether encouraging parents to set a good example for their teen drivers or educating every driver on the dangers of unsafe driving, we must recommit to doing everything we can to prevent driving-related injuries and fatalities. This month, let us continue empowering drivers to make responsible decisions and educating the American people on ways they can help keep our roads safe and our futures bright.

NOW, THEREFORE, I, BARACK OBAMA, President of the United States of America, by virtue of the authority vested in me by the Constitution and the laws of the United States, do hereby proclaim December 2016 as National Impaired Driving Prevention Month. I urge all Americans to make responsible decisions and take appropriate measures to prevent impaired driving.

IN WITNESS WHEREOF, I have hereunto set my hand this thirtieth day of November, in the year of our Lord two thousand sixteen, and of the Independence of the United States of America the two hundred and forty-first.

[FR Doc. 2016-29186

Filed 12-1-16; 12:30 pm]

Billing code 3295-F7-P